OFFICE OF PERSONNEL MANAGEMENT

5 CFR Part 339

Medical Qualification Determinations

AGENCY: U.S. Office of Personnel Management.

ACTION: Final rule; delay of the effective date.

SUMMARY: This rule delays the effective date of the final rule titled, Medical Qualification Determinations, published in the Federal Register on January 18, 2017, for an additional 60 days, starting from January 20, 2017.

DATES: The effective date for the rule amending 5 CFR part 339 published at 82 FR 5340, January 18, 2017, is delayed until March 21, 2017.

FOR FURTHER INFORMATION CONTACT: Monica Butler by telephone (202) 606-4209 or by email at Monica.Butler@opm.gov.

SUPPLEMENTARY INFORMATION: On January 18, 2017, OPM published a rule, titled Medical Qualification Determinations (82 FR 5340), with an effective date of February 17, 2017. On January 20, 2017, the White House distributed a Memorandum For The Heads of Executive Departments and Agencies, titled Regulatory Freeze Pending Review, from Reince Priebus, Assistant to the President and Chief of Staff. Pursuant to the memorandum, an agency was required to temporarily postpone, to a date 60 days from the date of the memorandum, the effective date of any rule, not excluded from the scope of the memorandum or otherwise excepted, that had been published in the Federal Register but had not yet taken effect. The rule referenced above, Medical Qualification Determinations, falls within the scope of the January 20, 2017, memorandum. Accordingly, the purpose of this rule is to perform the required action of postponing the effective date of this rule to March 21, 2017.

U.S. Office of Personnel Management.
Kathleen M. McGettigan,
Acting Director.

[FR Doc. 2017-03304 Filed 2-16-17; 8:45 am]

BILLING CODE 6325-39-P